DEPARTMENT OF THE INTERIOR

Fish and Wildlife Service

[FWS-R9-IA-2009-N0069; 96300-1671-0000-P5]

Issuance of Permits

AGENCY: Fish and Wildlife Service, Interior.

ACTION: Notice of issuance of permits.

SUMMARY: We, the U.S. Fish and Wildlife Service (Service), have issued the following permits to conduct certain activities with endangered species and/or marine mammals.

ADDRESSES: Documents and other information submitted with these applications are available for review, subject to the requirements of the Privacy Act and Freedom of Information Act, by any party who submits a written request for a copy of such documents to: U.S. Fish and Wildlife Service, Division of Management Authority, 4401 North Fairfax Drive, Room 212, Arlington, Virginia 22203; fax 703/358-2281.

FOR FURTHER INFORMATION CONTACT: Division of Management Authority, telephone 703/358-2104.

SUPPLEMENTARY INFORMATION: Notice is hereby given that on the dates below, as authorized by the provisions of the Endangered Species Act of 1973, as amended (16 U.S.C. 1531 et seq.), and/or the Marine Mammal Protection Act of 1972, as amended (16 U.S.C. 1361 et seq.), the Fish and Wildlife Service issued the requested permits subject to certain conditions set forth therein. For each permit for an endangered species, the Service found that (1) the application was filed in good faith, (2) the granted permit would not operate to the disadvantage of the endangered species, and (3) the granted permit would be consistent with the purposes and policy set forth in Section 2 of the Endangered Species Act of 1973, as amended.

Endangered Species
Permit number | Applicant | Receipt of application Federal Register notice | Permit issuance date
152122 | Univ. of Texas, Dept. of Anthropology | 72 FR 37039; July 6, 2007 | Dec. 24, 2008
162945 | Anthony J. Carter | 73 FR 79155; Dec. 24, 2008 | Jan. 28, 2009
166590 | Scott J. Poole | 73 FR 5206; Jan. 29, 2008 | April 9, 2008
170054 | Patrick J. Foley | 73 FR 2937; Jan. 16, 2008 | Feb. 19, 2008
170351 | Benjamin H. LeForce | 73 FR 5206; Jan. 29, 2008 | April 9, 2008
172526 | James L. Holzhauer | 73 FR 5206; Jan. 29, 2008 | Feb. 28, 2008
173461 | Orlando Deandar | 73 FR 10283; Feb. 26, 2008 | April 2, 2008
174402 | Jay R. Bollinger | 73 FR 21980; April 23, 2008 | June 4, 2008
175457 | Bruce L. Batory | 73 FR 14266; March 17, 2008 | April 28, 2008
176078 | Kevin D. Smith | 73 FR 21981; April 23, 2008 | June 11, 2008
177153 | Thomas E. Ferry | 73 FR 21980; April 23, 2008 | June 4, 2008
177238 | Mark L. Pease | 73 FR 21981; April 23, 2008 | June 11, 2008
177261 | Jason K. Bruce | 73 FR 18808; April 7, 2008 | May 8, 2008
177995 | Herbert J. Mueller | 73 FR 18809; April 7, 2008 | May 8, 2008
178000 | Oral E. Micham | 73 FR 23266; April 29, 2008 | June 4, 2008
178714 | George D. Cook, Jr. | 73 FR 21981; April 23, 2008 | June 11, 2008
178716 | Eldon R. Bell | 73 FR 23266; April 29, 2008 | May 29, 2008
178717 | Gerald L. Bridges | 73 FR 23266; April 29, 2008 | June 4, 2008
178910 | Leaha R. Wirth | 73 FR 21980; April 23, 2008 | May 29, 2008
179304 | Thomas J. Hammond | 73 FR 21980; April 23, 2008 | June 11, 2008
179951 | James M. Falco | 73 FR 29144; May 20, 2008 | Sept. 24, 2008
180778 | Patrick J. Mulligan | 73 FR 34035; June 16, 2008 | July 21, 2008
180827 | John K. Miller | 73 FR 35707; June 24, 2008 | Sept. 17, 2008
181020 | Wendell A. Neal | 73 FR 31709; June 3, 2008 | July 8, 2008
182074 | Thomas E. Tate | 73 FR 34035; June 16, 2008 | July 21, 2008
184076 | Gerald R. Bloom | 73 FR 35707; June 24, 2008 | July 30, 2008
184468 | James A. Hall | 73 FR 36891; June 30, 2008 | Aug. 4, 2008
185721 | Daniel L. Soliday | 73 FR 36891; June 30, 2008 | Aug. 4, 2008
185730 | Hollis B. Higginbotham | 73 FR 42593; July 22, 2008 | Sept. 10, 2008
185760 | Pat N. Crabtree | 73 FR 36891; June 30, 2008 | Aug. 4, 2008
185761 | Cincinnati Zoo and Botanical Garden | 73 FR 49698; Aug. 22, 2008 | Feb. 2, 2009
185764 | Christopher J. Reinesch | 73 FR 56863; Sept. 30, 2008 | Nov. 7, 2008
185770 | William F. Scott | 73 FR 47208; Aug. 13, 2008 | Sept. 23, 2008
185771 | William F. Scott | 74 FR 47207; Aug. 13, 2008 | Sept.18, 2008
185773 | Gay L. Scott | 73 FR 47207; Aug. 13, 2008 | Sept. 18, 2008
185775 | James M. Scott | 73 FR 79155; Dec. 24, 2008 | Feb. 6, 2008
185800 | Richard R. Scott | 73 FR 36891; June 30, 2008 | Aug. 4, 2008
185959 | Brook F. Minx | 73 FR 56863; Sept. 30, 2008 | Nov. 12, 2008
185974 | Thomas D. Lund | 73 FR 56863; Sept. 30, 2008 | Nov. 12, 2008
187319 | The Science and Conservation Center, Zoo Montana | 73 FR 56863; Sept. 30, 2008 | Jan. 8, 2009
187324 | Byron G. Sadler | 73 FR 42593; July 22, 2008 | Dec. 3, 2008
187330 | University of Illinois Veterinary Diagnostic Laboratory | 73 FR 56863; Sept. 30, 2008 | Jan.8, 2009
187826 | David C. Lau | 73 FR 47208; Aug. 13, 2008 | Sept. 23, 2008
187827 | Erik D. Holum | 73 FR 47207; Aug. 13, 2008 | Sept. 25, 2008
188839 | Mark C. Glass-Royal | 73 FR 47208; Aug. 13, 2008 | Sept. 25, 2008
189851 | Martin K. Slaugh | 73 FR 49698; Aug. 22, 2008 | Sept. 25, 2008
190199 | Patricia A. Pilia | 73 FR 56863; Sept. 30, 2008 | Nov. 7, 2008
190313 | Oregon Health & Science University | 73 FR 64628; Oct. 30, 2008 | Dec. 4, 2008
191132 | Fred H. Gage, Salk Institute | 73 FR 64628; Oct. 30, 2008 | Dec. 4, 2008
191580 | Barry D. Basiliere | 73 FR 61162; Oct. 15, 2008 | Nov. 18, 2008
191581 | Julius W. Kolar | 73 FR 61162; Oct. 15, 2008 | Jan. 13, 2009
191870 | Richard A. Hyce | 74 FR 8268; Feb. 24, 2009 | March 25, 2009
191870 | Richard A. Hyce | 74 FR 8268; Feb. 24, 2009 | March 25, 2009
192403 | Ricardo E. Longoria | 73 FR 56863; Sept. 30, 2008 | Dec. 8, 2008
192751 | Virginia Safari Park & Preservation Center, Inc. | 73 FR 56863; Sept. 30, 2008 | Dec. 8, 2008
192764 | Robert D. Ray | 73 FR 61897; Oct. 17, 2008 | Nov. 19, 2008
193170 | University of Florida | 73 FR 64628; Oct. 30, 2008 | Dec. 4, 2008
193458 | Kenneth E. Buch | 73 FR 64628; Oct. 30, 2008 | Dec. 12, 2008
194016 | Edward L. Mabry | 73 FR 61160; Oct. 15, 2008 | Nov. 18, 2008
194018 | Bill D. Williams | 73 FR 75128; Dec. 10, 2008 | Jan. 13, 2009
194086 | Jon R. Stephens | 73 FR 61162; Oct. 15, 2008 | Nov. 14, 2008
194286 | Glenn M. Smith | 73 FR 61162; Oct. 15, 2008 | Nov. 14, 2008
194316 | Hugh D. Wagner | 73 FR 61161; Oct. 15, 2008 | Nov. 14, 2008
194319 | Kirt O. Fredericks | 73 FR 61162; Oct. 15, 2008 | Nov. 14, 2008
194491 | Sherry V. Nelson | 73 FR 64628; Oct. 30, 2008 | Dec. 5, 2008
194630 | John L. Pouleson | 73 FR 61161; Oct. 15, 2008 | Nov. 14, 2008
194643 | James E. Smith | 73 FR 61161; Oct. 15, 2008 | Nov. 14, 2008
194655 | Thomas E. Freestone | 73 FR 61160; Oct. 15, 2008 | Nov. 14, 2008
194674 | Dianne Peden | 73 FR 61161; Oct. 15, 2008 | Nov. 14, 2008
195244 | David Clemente | 73 FR 64628; Oct. 30, 2008 | Dec. 4, 2008
195419 | Gregory S. Williamson | 73 FR 61160; Oct. 15, 2008 | Nov. 18, 2008
195827 | Robert W. Barnes | 73 FR 64628; Oct. 30, 2008 | Dec. 4, 2008
195911 | Wesley E. Hixon | 73 FR 64628; Oct. 30, 2008 | Dec. 4, 2008
195929 | William W. Pickett | 73 FR 75128; Dec. 10, 2008 | Jan. 21, 2009
196067 | Trent B. Latshaw | 73 FR 64628; Oct. 30, 2008 | Dec. 12, 2008
196610 | Russell C. Murphy | 73 FR 64628; Oct. 30, 2008 | Dec. 4, 2008
196611 | Roger D. Barker | 73 FR 64628; Oct. 30, 2008 | Dec. 4, 2008
196633 | Gary L. Joeris | 73 FR 64628; Oct. 30, 2008 | Dec. 4, 2008
196889 | Dr. Ajit Varki, Department of Cellular and Molecular Medicine, University of California | 73 FR 75129; Dec. 10, 2008 | Jan. 28, 2009
197427 | Bradford S. Kline | 74 FR 5671; Jan. 30, 2009 | March 5, 2009
197431 | Robert D. Taylor | 74 FR 5671; Jan. 30, 2009 | March 4, 2009
197642 | Saint Louis Zoo | 73 FR 75128; Dec. 10, 2008 | April 14, 2009
198116 | Herbert M.R. Rudolf | 73 FR 79898; Dec. 30, 2008 | Jan. 29, 2009
198158 | Douglas A. Hoofman | 73 FR 77830; Dec. 19, 2008 | Jan. 26, 2009
198190 | Larry G. Evenson | 73 FR 75128; Dec. 10, 2008 | Jan. 14, 2009
198716 | George M. Taylor | 73 FR 79155; Dec. 24, 2008 | Jan. 22, 2009
198827 | Gary D. Steele | 73 FR 75129; Dec. 10, 2008 | Jan. 21, 2009
199022 | Steven V. Slaton | 73 FR 77830; Dec. 19, 2008 | Jan. 22, 2009
199024 | Hans R. Van Riel | 73 FR 75129; Dec. 10, 2008 | Jan. 21, 2009
199058 | Mattew H. Heisser | 73 FR 79155; Dec. 24, 2008 | Jan. 22, 2009
199101 | Jene W. Mobley | 73 FR 79898; Dec. 30, 2008 | Jan. 29, 2009
199108 | University of Washington, National Primate Research Center | 74 FR 6049; Feb. 4, 2009 | March 12, 2009
199513 | Alexander T. Barclay | 73 FR 75129; Dec. 10, 2008 | Jan. 14, 2009
199530 | James W. Anderson | 73 FR 75129; Dec. 10, 2008 | Feb. 6, 2009
199607 | Richard P. Shoemaker | 74 FR 5671; Jan. 30, 2009 | March 4, 2009
199696 | Jock E. Clause | 73 FR 79155; Dec. 24, 2008 | Feb. 6, 2009
199696 | Jock E. Clause | 73 FR 79155; Dec. 24, 2008 | Feb. 26, 2009
199697 | Robert J. Jones, Jr. | 73 FR 79898; Dec. 30, 2008 | Feb. 6, 2009
200211 | KJC Holdings, Inc. | 73 FR 79155; Dec. 24, 2008 | April 27, 2009
200275 | William S. Young | 73 FR 79898; Dec. 30, 2008 | Jan. 29, 2009
200383 | Paul I. Freiderich | 73 FR 77830; Dec. 19, 2008 | Feb. 6, 2009
200419 | Eric T. Bond | 73 FR 79898; Dec. 30, 2008 | Jan. 29, 2009
200421 | Richard W. B. French | 73 FR 77830; Dec. 19, 2008 | Feb. 6, 2009
200696 | Warren A. Sackman | 73 FR 79155; Dec. 24, 2008 | Feb. 6, 2009
201977 | Terrance L. Hurlburt | 74 FR 5671; Jan. 30, 2009 | March 4, 2009
202379 | James W. Thomas, Emory University School of Medicine | 74 FR 10959; March 13, 2009 | April 14, 2009
202724 | Ted A. Trout | 74 FR 8268; Feb. 24, 2009 | March 27, 2009
202779 | Francisco A. Vega | 74 FR 5671; Jan. 30, 2009 | March 4, 2009
202783 | Gregg A. Loudon | 74 FR 5671; Jan. 30, 2009 | March 4, 2009
203086 | Merle A. Sampson | 74 FR 5671; Jan. 30, 2008 | Feb. 5, 2009
203086 | Merle A. Sampson | 74 FR 5671; Jan. 30, 2009 | Feb. 5, 2009
203347 | Duke University Lemur Center | 74 FR 10959; March 13, 2009 | April 16, 2009
203517 | Anthony J. White | 74 FR 6049; Feb. 4, 2009 | March 27, 2009
203526 | Roger A. Rose | 74 FR 6049; Feb. 4, 2009 | March 27, 2009
203831 | Leslie F. Howell, Jr. | 74 FR 6049; Feb. 4, 2009 | March 27, 2009
203831 | Leslie F. Howell Jr. | 74 FR 6049; Feb. 4, 2009 | April 23, 2009
204613 | Stanford University, Barsh Laboratory | 74 FR 10959; March 13, 2009 | April 27, 2009
204668 | Vulgens M. Schoen | 74 FR 8268; Feb. 24, 2009 | March 27, 2009
205571 | Brigham and Women's Hospital | 74 FR 10959; Mar. 13, 2009 | April 14, 2009
205664 | Milton T. Hummer | 74 FR 8268; Feb. 24, 2009 | April 13, 2009
206196 | Raymond J. Paolucci | 74 FR 8268; Feb. 24, 2009 | March 27, 2009
207087 | Gail R. Winnie | 74 FR 10959; March 13, 2009 | April 14, 2009
207161 | Stephen P. Monti | 74 FR 10959; March 13, 2009 | April 16, 2009
208563 | Jonathan Davis | 74 FR 14812; April 1, 2009 | May 13, 2009
209140 | Stephen G. Klarr | 74 FR 14812; April 1, 2009 | May 13, 2009
209358 | Richard E. McFalls | 74 FR 17210; April 14, 2009 | May 20, 2009
209360 | John S. Osborne | 74 FR 14812; April 1, 2009 | May 5, 2009
209362 | Mark D. Brown | 74 FR 14812; April 1, 2009 | May 5, 2009
209362 | Mark D. Brown | 74 FR 14812; April 1, 2009 | May 5, 2009
209373 | Roberto Gaza Sada | 74 FR 14812; April 1, 2009 | May 5, 2009
211149 | Michael A. Bindon | 74 FR 20339; May 1, 2009 | June 4, 2009
211150 | Stephen G. Bindon | 74 FR 20339; May 1, 2009 | June 4, 2009
211151 | Anthony J. Kiburis | 74 FR 20339; May 1, 2009 | June 4, 2009
691650 | USFWS/Office of Law Enforcement | 74 FR 10959; March 13, 2009 | May 13, 2009

Marine Mammals
Permit number | Applicant | Receipt of application Federal Register notice | Permit issuance date
049136 | Charles Grossman, Xavier University | 73 FR 75128; Dec. 10, 2008 | March 18, 2009
067116 | University of Florida, Aquatic Animal Health Program | 74 FR 5672; Jan. 30, 2009 | April 15, 2009
107933 | Wildlife Trust Inc. | 73 FR 61161; Oct. 15, 2008 | Feb. 2, 2009
195274 | USGS National Wildlife Health Center | 73 FR 75129; Dec. 10, 2008 | March 6, 2009
197043 | University of Michigan, Department of Environmental Health Sciences | 74 FR 5671; Jan. 30, 2009 | March 19, 2009
200587 | Alaska Museum of Natural History | 74 FR 10959; March 13, 2009 | May 15, 2009

Dated: June 5, 2009
Lisa J. Lierheimer
Senior Permit Biologist, Branch of Permits, Division of Management Authority

[FR Doc. E9-14057 Filed 6-15- 09; 8:45 am]

BILLING CODE 4310-55-S